POSTAL SERVICE

International Product Change—Global Plus 1B and 2B Negotiated Service Agreements

AGENCY: Postal Service ™.

ACTION: Notice.

SUMMARY: Postal Service notice of its filing a request with the Postal Regulatory Commission to add Global Plus 1B and 2B Negotiated Service Agreements to the Competitive Products List pursuant to 39 U.S.C. 3642.

DATES: January 18, 2011.

FOR FURTHER INFORMATION CONTACT: Margaret M. Falwell, 202-268-2576.

SUPPLEMENTARY INFORMATION: The United States Postal Service® hereby gives notice that it filed with the Postal Regulatory Commission, on December 9, 2010, Requests of United States Postal Service to Add Global Plus 1B and 2B Negotiated Service Agreements to the Competitive Product List, and Notice of Filing (Under Seal) the Enabling Governor's Decisions and Two Functionally Equivalent Agreements for each filing. Documents are available at http://www.prc.gov, Docket Nos. MC2011-7, MC2011-8, CP2011-39, CP2011-40, CP2011-41 and CP2011-42.

Neva R. Watson,
Attorney, Legislative.

[FR Doc. 2011-855 Filed 1-14-11; 8:45 am]

BILLING CODE 7710-12-P